DEPARTMENT OF ENERGY

Federal Energy Regulatory Commission

[Docket No. EL01-115-000]

Kinder Morgan Power Company; Complainant, v. Southern Company Services, Inc. Respondent; Notice of Complaint

September 21, 2001.

Take notice that on September 20, 2001, Kinder Morgan Power Company (KM) filed a complaint and request for fast track processing under Section 206 of the Federal Power Act, 16 U.S.C. 824e (1994), and Section 206 of the Commission's Rules of Practice and Procedure, 18 CFR 385.206, against Southern Company Services, Inc. requesting that the Commission order Southern to review interconnection requests and inform the interconnection customer whether the application is complete within a reasonable, specified time period, but not later than twenty (20) days after receipt of the request for interconnection.

Any person desiring to be heard or to protest this filing should file a motion to intervene or protest with the Federal Energy Regulatory Commission, 888 First Street, NE., Washington, DC 20426, in accordance with Rules 211 and 214 of the Commission's Rules of Practice and Procedure (18 CFR 385.211 and 385.214). All such motions or protests must be filed on or before October 1, 2001. Protests will be considered by the Commission in determining the appropriate action to be taken, but will not serve to make protestants parties to the proceeding. Any person wishing to become a party must file a motion to intervene. Answers to the complaint shall also be due on or before October 1, 2001. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-24148 Filed 9-26-01; 8:45 am]

BILLING CODE 6717-01-P